SECURITIES AND EXCHANGE COMMISSION

Sunshine Act Meeting

Notice is hereby given, pursuant to the provisions of the Government in the Sunshine Act, Public Law 94-409, that the Securities and Exchange Commission will hold a hold a roundtable about securities lending and short sale issues on September 29 and September 30, 2009.

The roundtable discussion will be held in the auditorium at SEC headquarters at 100 F Street, NE., in Washington, DC. On September 29, the roundtable will focus on securities lending issues and take place from 9:30 a.m. to approximately 4 p.m. On September 30, the roundtable will focus on short sale pre-borrowing and additional short sale disclosures and take place from 9:30 a.m. to approximately 12:30 p.m.

The roundtable will be open to the public with seating on a first-come, first-served basis. Visitors will be subject to security checks.

For further information, please contact:

The Office of the Secretary at (202) 551-5400.

Dated: September 14, 2009.
Elizabeth M. Murphy,
Secretary.

[FR Doc. E9-22431 Filed 9-14-09; 4:15 pm]

BILLING CODE 8010-01-P